DEPARTMENT OF HEALTH AND HUMAN SERVICES

Administration for Children and Families

Proposed Information Collection Activity; Advance Planning Document (APD) Process (OMB #0970-0417)

AGENCY: Office of Child Support Enforcement, Administration for Children and Families, Health and Human Services (HHS).

ACTION: Request for public comment.

SUMMARY: The Administration for Children and Families' (ACF) Office of Child Support Enforcement (OCSE) is requesting an update to the existing data collection for the Advance Planning Document (APD) process (OMB #0970-0417). OCSE proposes revisions to the annual burden estimates to reflect an increase in the number of states seeking approval to implement modernization solutions in efforts to replace antiquated legacy child support enforcement systems and to address an excess demand for emergency funding requests due to the impacts of the COVID-19 pandemic.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: The APD process, established at 45 CFR part 95, subpart F, is the procedure by which states request and obtain approval for Federal Financial Participation (FFP) in their cost of acquiring Automated Data Processing (ADP) equipment and services.

State child support agencies are required to establish and operate a federally approved statewide ADP and information retrieval system to assist in child support enforcement. States are required to submit an initial APD containing information to assist the Secretary of the U.S. Department of Health and Human Services (HHS) in determining if the state computerized support enforcement project planning and implementation meets federal certification requirements needed for the approval of FFP. States are then required to submit annual APD updates to HHS to report project status and request ongoing FFP for systems development, enhancements, operations, and maintenance. As-needed APDs are also submitted to acquire FFP when major milestones are missed or significant changes to project schedules occur. Based on an assessment of the information provided in the APD, states that do not meet the federal requirements necessary for approval are required to conduct periodic independent verification and validation services for high-risk project oversight.

In addition to the APDs providing HHS with the information necessary to determine the allowable level of federal funding for state systems projects, states also submit associated procurement and data security documents, such as requests for proposals (RFPs), contracts, contract amendments, and the biennial security review reports.

Respondents: State child support agencies.

Annual Burden Estimates
Instrument | Total number of respondents | Total number of responses per respondent | Average burden hours per response | Total burden hours | Annual burden hours
RFP and Contract | 50 | 4.5 | 4 | 900 | 300
Emergency Funding Request | 21 | 1 | 2 | 42 | 14
Biennial Reports | 54 | 1.5 | 1.5 | 121.5 | 40.5
Advance Planning Document | 44 | 3.6 | 120 | 19,008 | 6,336
Operational Advance Planning Document | 10 | 3 | 30 | 900 | 300
Independent Verification and Validation (ongoing) | 3 | 12 | 10 | 360 | 120
Independent Verification and Validation (semiannually) | 4 | 6 | 16 | 384 | 128
Independent Verification and Validation (quarterly) | 10 | 12 | 30 | 3,600 | 1,200
System Certification | 3 | 3 | 240 | 2,160 | 720
Estimated Total Annual Burden Hours: |  |  |  |  | 9,158.50

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 45 CFR part 95, subpart F.

John M. Sweet, Jr,
ACF/OPRE Certifying Officer.

[FR Doc. 2020-19674 Filed 9-3-20; 8:45 am]

BILLING CODE 4184-41-P